NUCLEAR REGULATORY COMMISSION

[Docket No. 70-7003; NRC-2018-0079]

Centrus Energy Corp.; Proposed Decommissioning Plan

AGENCY: Nuclear Regulatory Commission.

ACTION: License amendment application; request for comment.

SUMMARY: The U.S. Nuclear Regulatory Commission (NRC) has received an application from Centrus Energy Corp. (Centrus) to amend Material License Number SNM-7003 to authorize decommissioning of its American Centrifuge Lead Cascade Facility (LCF) located in Piketon, Ohio. The NRC has accepted the application for technical review and evaluation of the decommissioning plan. As all materials and equipment at the LCF were previously removed and dispositioned offsite under the authority of Centrus' existing license, the NRC's review of the decommissioning plan is limited to (1) decommissioning funding, (2) dose assessment and derived concentration guideline levels and methodology, and (3) final status survey design in accordance with the Multi-Agency Radiation Survey and Site Investigation Manual. In order to inform its review of these remaining issues, the NRC is soliciting comments from affected parties.

DATES: Submit comments by July 2, 2018. Comments received after this date will be considered if it is practical to do so, but the Commission is able to ensure consideration only for comments received before this date.

ADDRESSES: You may submit comments by any of the following methods:

• Federal Rulemaking Website: Go to http://www.regulations.gov and search for Docket ID NRC-2018-0079. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Yawar H. Faraz, Office of Nuclear Material Safety and Safeguards, U.S. Nuclear Regulatory Commission, Washington, DC 20555-0001; telephone: 301-415-7220; email: Yawar.Faraz@nrc.gov.

SUPPLEMENTARY INFORMATION:

I. Obtaining Information and Submitting Comments

A. Obtaining Information

Please refer to Docket ID NRC-2018-0079 when contacting the NRC about the availability of information for this action. You may obtain publicly-available information related to this action by any of the following methods:

• Federal Rulemaking Website: Go to http://www.regulations.gov and search for Docket ID NRC-2018-0079.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0079 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

By letter dated February 21, 2018 (ADAMS Accession No. ML18030A442), the NRC accepted for detailed technical review Centrus' application dated January 5, 2018 (ADAMS Accession No. ML18025B285), and a subsequent clarification dated February 14, 2018 (ADAMS Accession No. ML18046A081), to amend Material License No. SNM-7003 to authorize decommissioning of its LCF located in Piketon, Ohio.

In the early 1980s, the U.S. Department of Energy (DOE) initiated its construction of the Gas Centrifuge Enrichment Plant (GCEP) at the Portsmouth Gaseous Diffusion Plant site in Piketon, Ohio. After installing and operating several hundred centrifuges, the DOE terminated the GCEP project in 1985. Approximately 15 years later, USEC, Inc. decided to use and expand the existing GCEP facilities for deploying its own commercial centrifuge plant. In 2004, USEC, Inc. signed a lease agreement with DOE to use certain GCEP facilities for testing and eventual commercial production as part of its overall gas centrifuge uranium enrichment project.

The NRC issued Material License No. SNM-7003 for the LCF to USEC, Inc. on February 24, 2004 (ADAMS Accession No. ML062630432). At that time, USEC, Inc., under contract with DOE, dismantled and packaged for transport for offsite disposition DOE's contaminated and non-contaminated GCEP classified waste, comprising of centrifuges and equipment. After licensing by the NRC, USEC, Inc. began to install its own centrifuges in a portion of one of the two existing GCEP process buildings and began operating the LCF as a test facility in August of 2006. The LCF's purpose was to obtain “reliability, performance, cost, and other data” for use in the decision whether to construct and operate a commercial uranium enrichment plant, commonly referred to as the American Centrifuge Plant. To govern any future operation of the ACP, the NRC issued Material License No. SNM-2011 on April 13, 2007 (ADAMS Accession No. ML070400284). To date, no significant construction activities have occurred at the ACP. These NRC licenses were subsequently transferred from USEC, Inc. to Centrus. The LCF lies completely within the ACP site, occupying about ten percent of the space reserved for the ACP. The ACP site, in turn, lies completely within DOE's controlled access area, where an adjoining uranium enrichment facility using a gaseous diffusion process previously operated for several decades. Currently, DOE is decommissioning this facility.

On March 2, 2016 (ADAMS Accession No. ML16074A405), Centrus notified the NRC, in accordance with paragraph 70.38(d)(2) of title 10 of the Code of Federal Regulations (10 CFR), of its decision to permanently cease operation of the LCF and to terminate Material License No. SNM-7003 following decontamination and decommissioning activities.

On May 17, 2016, Centrus submitted a license amendment request to the NRC to downgrade licensed activities at the LCF to “limited operations” and to remove enrichment capability from the license (ADAMS Package Accession No. ML16162A194). The NRC approved the amendment on December 23, 2016 (ADAMS Accession No. ML16330A248).

Since notifying the NRC of its intent to decommission the LCF under the authority of its existing Material License No. SNM-7003, Centrus removed the process gas in the form of UF6 and packaged all LCF classified equipment, including all LCF centrifuges and piping, and shipped the packages offsite for appropriate disposition. The NRC has verified that all classified matter has been shipped offsite for appropriate disposition, and the NRC has withdrawn Centrus' authorization to possess classified information or material/equipment at the LCF and ACP in Piketon, Ohio. Except for the NRC's confirmation of the results of Centrus' final status survey, all physical decommissioning activities for the LCF have been completed.

This present action requires the NRC to evaluate and consider Centrus' decommissioning plan for approval and to consider the approval of a corresponding license amendment. This review will be limited in scope to those portions of the decommissioning plan not previously completed under the authority of the license. Before completing the proposed action, the NRC will need to make the findings required by the Atomic Energy Act of 1954, as amended, and the NRC's regulations. These findings will be documented in a safety evaluation report and an environmental assessment.

III. Opportunity To Provide Comments

In accordance with section 20.1405 of 10 CFR, the NRC is providing notice to individuals in the vicinity of the site that the NRC is in receipt of a decommissioning plan and will accept comments from affected parties concerning this decommissioning proposal. The NRC requests comments on the portions of the LCF's decommissioning plan under review by the NRC, which are limited to: (1) Decommissioning funding, (2) dose assessment and derived concentration guideline levels and methodology, and (3) final status survey design in accordance with the Multi-Agency Radiation Survey and Site Investigation Manual.

Dated at Rockville, Maryland, this 25th day of April 2018.
For the Nuclear Regulatory Commission.
Craig G. Erlanger,
Director, Division of Fuel Cycle Safety, Safeguards, and Environmental Review, Office of Nuclear Material Safety and Safeguards.

[FR Doc. 2018-09084 Filed 4-30-18; 8:45 am]

BILLING CODE 7590-01-P